INTERNATIONAL TRADE COMMISSION

[Investigation No. 731-TA-860 (Final)]

Tin- and Chromium-Coated Steel Sheet From Japan; Request for Comments Regarding the Institution of a Section 751(b) Review Concerning the Commission's Affirmative Determination

AGENCY: United States International Trade Commission.

ACTION: Notice.

SUMMARY: The Commission invites comments from the public on whether changed circumstances exist sufficient to warrant the institution of a review pursuant to section 751(b) of the Tariff Act of 1930 regarding the Commission's affirmative determination in investigation No. 731-TA-860 (Final). The purpose of the proposed review would be to determine whether revocation of the existing antidumping duty order on imports of tin- and chromium-coated steel sheet from Japan would be likely to lead to continuation or recurrence of material injury.

DATES: October 21, 2022.

FOR FURTHER INFORMATION CONTACT: Alejandro Orozco (202-205-3177), Office of Investigations, U.S. International Trade Commission, 500 E Street SW, Washington, DC 20436. Hearing-impaired persons can obtain information on this matter by contacting the Commission's TDD terminal on 202-205-1810. Persons with mobility impairments who will need special assistance in gaining access to the Commission should contact the Office of the Secretary at 202-205-2000. General information concerning the Commission may also be obtained by accessing its internet server (http://www.usitc.gov). The public record for this matter may be viewed on the Commission's electronic docket (EDIS) at http://edis.usitc.gov.

SUPPLEMENTARY INFORMATION: Background.—In August 2000, the Commission determined that an industry in the United States was materially injured by reason of imports of tin- and chromium-coated steel sheet from Japan found by the U.S. Department of Commerce (Commerce) to be sold in the United States at less than fair value (65 FR 50005, August 16, 2000). Effective August 28, 2000, Commerce issued an antidumping duty order (65 FR 52067).

Following the first five‐year reviews by Commerce and the Commission, effective July 21, 2006, Commerce issued a continuation of the antidumping duty order on imports of tin‐ and chromium‐coated steel sheet from Japan (71 FR 41422). Following the second five‐year reviews by Commerce and the Commission, effective June 12, 2012, Commerce issued a continuation of the antidumping duty order on imports of tin‐ and chromium‐coated steel sheet from Japan (77 FR 34938). Following the third five‐year reviews by Commerce and the Commission, effective July 11, 2018, Commerce issued a continuation of the antidumping duty order on imports of tin‐ and chromium‐coated steel sheet from Japan (83 FR 32074).

On August 5, 2022, the Commission received a request to review its affirmative determination in investigation No. 731-TA-860 (Final) pursuant to section 751(b) of the Act (19 U.S.C. 1675(b)). The request was filed by the Can Manufacturers Institute, Silgan Containers LLC, Sonoco Product Company, Trivium Packaging USA Inc., Crown Holdings Inc., and Nippon Steel Corporation (collectively, the “Requestors”). The Requestors argue that there have been recent and significant changes in the tin- and chromium-coated steel sheet industries in the United States and Japan that warrant a changed circumstance review. The Requestors allege that a reduction in domestic production capacity of tin- and chromium-coated steel sheet has resulted in supply shortages, which they argue “will only worsen as more domestic supply is taken off line by the end of 2023” with the complete closure of USS-POSCO Industries, a major source of tin- and chromium-coated steel sheet to West Coast companies which supply the agricultural industry in California. In addition, the Requestors allege that the largest producers of tin- and chromium-coated steel sheet in Japan have reduced their capacity and currently have only limited ability to increase their exports.

Written comments requested.—Pursuant to section 207.45(b) of the Commission's Rules of Practice and Procedure, the Commission requests comments concerning whether the alleged changed circumstances, brought about by the aforementioned changes in the tin- and chromium-coated steel sheet industries in the United States and Japan, are sufficient to warrant institution of a review.

Written submissions.—Comments must be filed with the Secretary to the Commission by December 15, 2022. All written submissions must conform with the provisions of § 201.8 of the Commission's rules; any submissions that contain business proprietary information must also conform with the requirements of §§ 201.6, 207.3, and 207.7 of the Commission's rules. The Commission has not included a process for access to business proprietary information pursuant to an administrative protective order during the pre-institution comment period in this proceeding (See 56 FR 11918, 11922 (March 21, 1991)). In the event that the Commission finds sufficient changed circumstances to warrant institution of a review investigation following the comment period, access to business proprietary information under an administrative protective order will be available at that time. The Commission's Handbook on Filing Procedures, available on the Commission's website at https://www.usitc.gov/documents/handbook_on_filing_procedures.pdf, elaborates upon the Commission's procedures with respect to filings.

Please note the Secretary's Office will accept only electronic filings at this time. Filings must be made through the Commission's Electronic Document Information System (EDIS, https://edis.usitc.gov). No in-person paper-based filings or paper copies of any electronic filings will be accepted until further notice.

Authority: This notice is published pursuant to section 207.45 of the Commission's rules.

By order of the Commission.
Issued: October 21, 2022.
Katherine Hiner,
Acting Secretary to the Commission.

[FR Doc. 2022-23468 Filed 10-27-22; 8:45 am]

BILLING CODE 7020-02-P